DEPARTMENT OF HOMELAND SECURITY

Coast Guard

[Docket No. USCG-2019-0420]

Certificate of Alternative Compliance for the Cable Ferry TINA FALLON

AGENCY: Coast Guard, DHS.

ACTION: Notification of issuance of a certificate of alternative compliance.

SUMMARY: The Coast Guard announces that the Fifth District, Chief of Prevention Division has issued a certificate of alternative compliance from the International Regulations for Preventing Collisions at Sea, 1972 (72 COLREGS), for the cable ferry, TINA FALLON, Official Number (O.N.) 1206170, Chesapeake Shipbuilding Corporation Hull Number 89. We are issuing this notice because its publication is required by statute. Due to its construction, purpose and operation, the cable ferry, TINA FALLON cannot fully comply with the light, shape, or sound signal provisions of the 72 COLREGS without interfering with the vessel's design, operation and construction. This notification of issuance of a certificate of alternative compliance promotes the Coast Guard's marine safety mission.

DATES: The Certificate of Alternative Compliance was issued on July 2, 2019.

FOR FURTHER INFORMATION CONTACT: For information or questions about this notice call or email LCDR Ronaydee M. Marquez, District Five, Asst. Chief, Inspections and Investigations, U.S. Coast Guard; telephone: 757-398-6682, email: Ronaydee.M.Marquez@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴ Because TINA FALLON operates within Coast Guard Fifth District, this office is authorized to issue the COAC.

² 33 CFR 81.5.

³ 33 CFR 81.9.

⁴ 33 U.S.C. 1605(c) and 33 CFR 81.18.

The Fifth District, Chief of Prevention Division, U.S. Coast Guard, certifies that the TINA FALLON, O.N. 1206170 is a vessel of special construction or purpose, and that, with respect to the requirement for sidelights and sternlights it is not possible to comply fully with the requirements enumerated in the 72 COLREGS, without interfering with the normal operations or design of the vessel. Installing navigation or running lights along the centerline would interfere with the open deck as the vessel has a pilot house superstructure set to one side of the vessel for loading and parking vehicles. Additionally, the installation of sidelights and sternlights on this vessel will be inconsequential as the vessel operates on a direct cable crossing on the Nanticoke River, Connecting Road 577 in Delaware on an unscheduled 600-foot route. While the vessel is underway, the cable is raised, and yellow flashing warning lights on the primary slip automatically actuate whenever the cable is raised, thereby warning up and down river traffic when the vessel is crossing. Due to the design and nature of the operation, it is impossible for any vessel traffic to cross the route due to the cable, therefore, the requirement for sidelights or sternlights have been omitted. Installation of these lights is inconsequential and would not pose a safety risk as no vessel traffic can cross or overtake. Additionally, due to the short nature of the trip, the requirement for sidelights and sternlights would interfere with the vessel's operations, and create a burden on the operator to continuously switch the navigation lights on and off after each 5 minute transit.

The vessel will install the mast lights and restricted in ability to maneuver lights (RAM) on the superstructure mast at proper height. The Fifth District, Chief of Prevention Division further finds and certifies that the mast light and RAM lights are in the closes possible compliance with the applicable provisions of the 72 COLREGS.⁵

⁵ 33 U.S.C. 1605(a); 33 CFR 81.9.

This notice is issued under authority of 33 U.S.C. 1605(c) and 33 CFR 81.18.

Dated: July 9, 2019.
J.A. Stockwell,
Acting Chief, CDR, U.S. Coast Guard, Prevention Division, Fifth Coast Guard District.

[FR Doc. 2019-14848 Filed 7-11-19; 8:45 am]

BILLING CODE 9110-04-P